ENVIRONMENTAL PROTECTION AGENCY

48 CFR Part 1501

Acquisition Regulation; OMB Approvals Under the Paperwork Reduction Act

CFR Correction

In Title 48 of the Code of Federal Regulations, Chapters 15 to 28, revised as of October 1, 2014, on page 6, in section 1501.370, in the table, for the first entry, remove “through” and add “and” in its place.

[FR Doc. 2015-13058 Filed 5-28-15; 8:45 am]

BILLING CODE 1505-01-D